DEPARTMENT OF EDUCATION

Applications for New Awards; Native American Career and Technical Education Program (NACTEP)

AGENCY: Office of Vocational and Adult Education, Department of Education.

ACTION: Notice.

Overview Information:

Native American Career and Technical Education Program (NACTEP).

Notice inviting applications for new awards for fiscal year (FY) 2013.

Catalog of Federal Domestic Assistance (CFDA) Number: 84.101A.

Dates:

Applications Available: February 26, 2013.

Deadline for Transmittal of Applications: March 28, 2013.

Full Text of Announcement

I. Funding Opportunity Description

Purpose of Program: The Native American Career and Technical Education Program (NACTEP) provides grants to improve career and technical education programs that are consistent with the purposes of the Carl D. Perkins Career and Technical Education Act of 2006 (the Act) and that benefit Native Americans and Alaska Natives.

Priorities: On December 15, 2010, following public comment rulemaking, the Department published in the Federal Register a notice of final supplemental priorities and definitions for discretionary grant programs (75 FR 78486), and corrected the notice on May 12, 2011 (76 FR 27637) (supplemental priorities). Under this competition we are using the Secretary's STEM and Technology priorities from the supplemental priorities, since both of these are key Administration priorities in education. The use of technology within CTE programs funded under the Act, including NACTEP, can help improve the quality of instruction and the connections that students have to universities, colleges, employers, and industries that are far from campus. Career and technical education in the STEM fields is important in providing students with education that can lead to employment in high growth, in-demand industry sectors. If we are to prepare Native American and Alaska Native students for the jobs of the future, we believe it is important for STEM to be a focus of the CTE programs available to them.

Under this competition we are particularly interested in applications that address the following priorities.

Invitational Priorities: For FY 2013, these priorities are invitational priorities. Under 34 CFR 75.105(c)(1) we do not give an application that meets one or both of these invitational priorities a competitive or absolute preference over other applications.

Priority 1—Technology.

Under this priority, we invite applications that propose projects that are designed to improve student achievement (as defined in this notice) or teacher effectiveness through the use of high-quality digital tools or materials, which may include preparing teachers to use the technology to improve instruction, as well as developing, implementing, or evaluating digital tools or materials.

Priority 2—Promoting Science, Technology, Engineering, and Mathematics (STEM) Education.

Under this priority, we invite applications that propose projects that are designed to address one or more of the following priority areas:

(a) Providing students with increased access to rigorous and engaging coursework in STEM.

(b) Increasing the number and proportion of students prepared for postsecondary or graduate study and careers in STEM.

(c) Increasing the opportunities for high-quality preparation of, or professional development for, teachers or other educators of STEM subjects.

Definitions: These definitions are from statute or from the notice of final requirements, definitions, and selection criteria for this program, published elsewhere in this issue of the Federal Register. The source of each definition is noted after the definition.

Act of April 16, 1934 means the Federal law commonly known as the “Johnson-O'Malley Act” that authorizes the Secretary of the Interior to enter into contracts for the education of Indians and other purposes. (25 U.S.C. 455-457)

Acute economic need means an income that is at or below the national poverty level according to the latest available data from the U.S. Department of Commerce or the U.S. Department of Health and Human Services Poverty Guidelines. See the notice of final requirements, definitions, and selection criteria for this program, published elsewhere in this issue of the Federal Register.

Alaska Native or Native means a citizen of the United States who is a person of one-fourth degree or more Alaska Indian (including Tsimshian Indians not enrolled in the Metlakta Indian Community) Eskimo, or Aleut blood, or a combination thereof. The term includes—

(a) Any Native, as so defined, either or both of whose adoptive parents are not Natives; and

(b) In the absence of proof of a minimum blood quantum, any citizen of the United States who is regarded as an Alaska Native by the Native village or Native group of which he or she claims to be a member and whose father or mother is (or, if deceased, was) regarded as Native by any village or group. Any decision of the Secretary of the Interior regarding eligibility for enrollment will be final. (20 U.S.C. 2326(a)(1); 43 U.S.C. 1602(b))

Alaska Native entity means an entity such as an Alaska Native village, group, or regional or village corporation. (43 U.S.C. 1600 et seq.) (43 USCS 1601 et seq.)

Alaska Native group means any tribe, band, clan, village, community, or village association of Natives in Alaska composed of less than twenty-five Natives, who comprise a majority of the residents of the locality. (43 U.S.C. 1602(d))

Alaska Native village means any tribe, band, clan, group, village, community, or association in Alaska—

(a) Listed in sections 1610 and 1615 of the Alaska Native Claims Settlement Act; or

(b) That meets the requirements of chapter 33 of the Alaska Native Claims Settlement Act; and

(c) That the Secretary of the Interior determines was, on the 1970 census enumeration date (as shown by the census or other evidence satisfactory to the Secretary of the Interior, who shall make findings of fact in each instance), composed of twenty-five or more Natives. (43 U.S.C. 1602(c))

Alaska regional corporation means an Alaska Native regional corporation established under the laws of the State of Alaska in accordance with the provisions of chapter 33 of the Alaska Native Claims Settlement Act. (43 U.S.C. 1602(g))

Alaska village corporation means an Alaska Native village corporation organized under the laws of the State of Alaska as a business for profit or nonprofit corporation to hold, invest, manage and/or distribute lands, property, funds, and other rights and assets for and on behalf of an Alaska Native village, in accordance with the terms of chapter 33 of the Alaska Native Claims Settlement Act. (43 U.S.C. 1602(j))

Bureau means the Bureau of Indian Affairs of the U.S. Department of the Interior. (25 U.S.C. 2021(2))

Bureau-funded school means—

(a) A Bureau-operated elementary or secondary day or boarding school or Bureau-operated dormitory for students attending a school other than a Bureau school. (25 U.S.C. 2021(3) and (4));

(b) An elementary school, secondary school, or dormitory, that receives financial assistance for its operation under a contract, grant, or agreement with the Bureau under section 102, 103(a), or 208 of ISDEA (25 U.S.C. 450f, 450h(a), or 458d) or under the Tribally Controlled Schools Act of 1988 (25 U.S.C. 2504 et seq.). (25 U.S.C. 2021(3) and (5)); or

(c) A school for which assistance is provided under the Tribally Controlled Schools Act of 1988 (25 U.S.C. 2501 et seq.). (25 U.S.C. 2021)

Career and technical education means organized educational activities that—

(a) Offer a sequence of courses that—

(1) Provides individuals with coherent and rigorous content aligned with challenging academic standards and relevant technical knowledge and skills needed to prepare for further education and careers in current or emerging professions;

(2) Provides technical skills proficiency, an industry-recognized credential, a certificate, or an associate degree; and

(3) May include prerequisite courses (other than remedial courses) that meet the requirements of this definition; and

(b) Include competency-based applied learning that contributes to the academic knowledge, higher-order reasoning and problem-solving skills, work attitudes, general employability skills, technical skills, and occupation-specific skills, and knowledge of all aspects of an industry, including entrepreneurship, of the individual. (20 U.S.C. 2302(5))

Coherent sequence of courses means a series of courses in which career and academic education is integrated, and that directly relates to, and leads to, both academic and occupational competencies. The term includes competency-based education and academic education, and adult training or retraining, including sequential units encompassed within a single adult retraining course, that otherwise meet the requirements of this definition. (57 FR 36726)

Direct assistance to students means tuition, dependent care, transportation, books, and supplies that are necessary for a student to participate in a project funded under this program. See the notice of final requirements, definitions, and selection criteria for this program, published elsewhere in this issue of the Federal Register.

High-need children and high-need students means children and students at risk of educational failure, such as children and students who are living in poverty, who are English learners, who are far below grade level or who are not on track to becoming college- or career-ready by graduation, who have left school or college before receiving, respectively, a regular high school diploma or a college degree or certificate, who are at risk of not graduating with a diploma on time, who are homeless, who are in foster care, who are pregnant or parenting teenagers, who have been incarcerated, who are new immigrants, who are migrant, or who have disabilities. See the notice of final supplemental priorities and definitions for discretionary grant programs, published in the Federal Register on December 15, 2010 (75 FR 78486), and corrected on May 12, 2011 (76 FR 27637).(76 FR 27640).

Indian means a person who is a member of an Indian tribe. (20 U.S.C. 2326(a)(3); 25 U.S.C. 450b(d))

Indian tribe means any Indian tribe, band, nation, or other organized group or community, including any Alaska Native village or regional or village corporation as defined in or established pursuant to the Alaska Native Claims Settlement Act (43 U.S.C. 1601 et seq.), that is recognized as eligible for the special programs and services provided by the United States to Indians because of their status as Indians. (20 U.S.C. 2326(a)(3); 25 U.S.C. 450b(e))

Institution of higher education means—

(a) An educational institution in any State that—

(1) Admits as regular students only persons having a certificate of graduation from a school providing secondary education, or the recognized equivalent of such a certificate;

(2) Is legally authorized within such State to provide a program of education beyond secondary education;

(3) Provides an educational program for which the institution awards a bachelor's degree or provides not less than a 2-year program that is acceptable for full credit toward such a degree;

(4) Is a public or other nonprofit institution; and

(5) Is accredited by a nationally recognized accrediting agency or association or, if not so accredited, is an institution that has been granted pre-accreditation status by such an agency or association that has been recognized by the Secretary of the Education for the granting of pre-accreditation status, and the Secretary of Education has determined that there is satisfactory assurance that the institution will meet the accreditation standards of such an agency or association within a reasonable time.

(b) The term also includes—

(1) Any school that provides not less than a 1-year program of training to prepare students for gainful employment in a recognized occupation and that meets the provisions of paragraphs (a)(1), (2), (4), and (5) of this definition.

(2) A public or nonprofit private educational institution in any State that, in lieu of the requirement in paragraph (a)(1) of this definition, admits as regular students persons who are beyond the age of compulsory school attendance in the State in which the institution is located. (20 U.S.C. 1001 and 2302(18))

Special populations means—

(a) Individuals with disabilities;

(b) Individuals from economically disadvantaged families, including foster children;

(c) Individuals preparing for nontraditional training fields;

(d) Single parents, including single pregnant women;

(e) Displaced homemakers; and

(f) Individuals with limited English proficiency. (20 U.S.C. 2302(29))

Stipend means a subsistence allowance for a student that is necessary for the student to participate in a project funded under this program. See the notice of final requirements, definitions, and selection criteria for this program, published elsewhere in this issue of the Federal Register.

Student achievement means—

(a) For tested grades and subjects: (1) A student's score on the State's assessments under the Elementary and Secondary Education Act, as amended. (20 U.S.C. 6301 et seq.) (ESEA); and, as appropriate, (2) other measures of student learning, such as those described in paragraph (b) of this definition, provided they are rigorous and comparable across schools.

(b) For non-tested grades and subjects: alternative measures of student learning and performance, such as student scores on pre-tests and end-of-course texts; student performance on English language proficiency assessments; and other measures of student achievement that are rigorous and comparable across schools.

See the notice of final supplemental priorities and definitions for discretionary grant programs, published in the Federal Register on December 15, 2010 (75 FR 78486), and corrected on May 12, 2011 (76 FR 27637).

Support services means services related to curriculum modification, equipment modification, classroom modification, supportive personnel, and instructional aids and devices. (20 U.S.C. 2302(31))

Tribal organization means the recognized governing body of any Indian tribe; any legally established organization of Indians that is controlled, sanctioned, or chartered by such governing body or that is democratically elected by the adult members of the Indian community to be served by the organization and that includes the maximum participation of Indians in all phases of its activities, provided that, in any case where a contract is let or grant made to an organization to perform services benefiting more than one Indian tribe, the approval of each such Indian tribe shall be a prerequisite to the letting or making of such contract or grant. (20 U.S.C. 2326(a)(3); 25 U.S.C. 450b(l))

Tribally Controlled College or University means an institution of higher education that is formally controlled, or has been formally sanctioned or chartered, by the governing body of an Indian tribe or tribes, except that no more than one such institution will be recognized with respect to any such tribe. (20 U.S.C. 2302(33) and 25 U.S.C. 1801(a)(4))

Requirements: These requirements are from the notice of final requirements, definitions, and selection criteria for this program, published elsewhere in this issue of the Federal Register, unless a specific statutory citation for the requirement is provided.

Authorized Programs, Services, and Activities

(a) Authorized programs. Section 116(e) of the Act requires the Secretary to ensure that activities funded under NACTEP “will improve career and technical education programs” (20 U.S.C. 2326(e)). This requirement continues to align NACTEP with other programs authorized under the Act that require recipients of funds under the Act to provide coherent and rigorous content aligned with challenging academic standards and improve career and technical education.

Therefore, under NACTEP the Assistant Secretary will award grants to carry out projects that—

(1) Propose organized educational activities offering a sequence of courses that—

(i) Provide individuals with coherent and rigorous content aligned with challenging academic standards and relevant technical knowledge and skills needed to prepare for further education and careers in current or emerging professions;

(ii) Provide technical skill proficiency, an industry-recognized credential, a certificate, or an associate degree; and

(iii) Include competency-based applied learning that contributes to the academic knowledge, higher-order reasoning and problem-solving skills, work attitudes, general employability skills, technical skills, and occupation-specific skills, and knowledge of all aspects of an industry, including entrepreneurship, of an individual. Projects may include prerequisite courses (other than remedial courses) that meet the definitional requirements of section 3(5) of the Act. (20 U.S.C. 2302(5)) In addition, at the secondary level, coherent and rigorous academic curriculum must be aligned with challenging academic content standards and student academic achievement standards in reading or language arts and in mathematics that the State in which the applicant is located has established under the ESEA. Contacts for State ESEA programs may be found on the Internet at: www.ed.gov/about/contacts/state/index.html.

(2) Develop new programs, services, or activities or improve or expand existing programs, services, or activities that are consistent with the purposes of the Act. In other words, the Department will support “expansions” or “improvements” that include, but are not limited to, the expansion of effective programs or practices; upgrading of activities, equipment, or materials; increasing staff capacity; adoption of new technology; modification of curriculum; or implementation of new policies to improve program effectiveness and outcomes.

(3) Fund a career and technical education program, service, or activity that—

(i) Is a new program, service, or activity that was not provided by the applicant during the instructional term (a defined period, such as a semester, trimester, or quarter, within the academic year) that preceded the request for funding under NACTEP;

(ii) Will improve or expand an existing career and technical education program; or

(iii) Inherently improves career and technical education.

Note: A program, service, or activity “inherently improves career and technical education” if it—

(a) Develops new career and technical education programs of study that will be approved by the appropriate accreditation agency;

(b) Strengthens the rigor of the academic and career and technical components of funded programs;

(c) Uses curriculum that is aligned with industry-recognized standards and will result in students attaining industry-recognized credentials, certificates, or degrees;

(d) Integrates academics (other than remedial courses) with career and technical education programs through a coherent sequence of courses to ensure learning in the core academic and career and technical subjects;

(e) Links career and technical education at the secondary level with career and technical education at the postsecondary level and facilitates students' pursuit of a baccalaureate degree;

(f) Expands the scope, depth, and relevance of curriculum, especially content that provides students with a comprehensive understanding of all aspects of an industry and a variety of hands-on, job-specific experiences; and

(g) Offers—

(1) Work-related experience, internships, cooperative education, school-based enterprises, entrepreneurship, community service learning, and job shadowing that are related to career and technical education programs;

(2) Coaching/mentoring, support services, and extra help for students after school, on weekends, and/or during the summers, so they can meet higher standards;

(3) Career guidance and academic counseling for students participating in career and technical education programs;

(4) Placement services for students who have successfully completed career and technical education programs and attained a technical skill proficiency that is aligned with industry-recognized standards;

(5) Professional development programs for teachers, counselors, and administrators;

(6) Strong partnerships among grantees and local educational agencies, postsecondary institutions, community leaders, adult education providers, and, as appropriate, other entities, such as employers, labor organizations, parents, and local partnerships, to enable students to achieve State academic standards and career and technical skills;

(7) The use of student assessment and evaluation data to improve continually instruction and staff development with the goal of increasing student achievement in career and technical education programs; or

(8) Research, development, demonstration, dissemination, evaluation and assessment, capacity-building, and technical assistance, related to career and technical education programs.

(b) Assistance to Bureau-funded secondary schools. An Indian tribe, a tribal organization, or an Alaska Native entity, that receives funds through a NACTEP grant or contract may use the funds to provide assistance to a secondary school operated or supported by the U.S. Department of the Interior to enable such school to carry out career and technical education programs.

(c) Student stipends. In accordance with section 116(c)(2) of the Act, a portion of an award under this program may be used to provide stipends (as defined in the Definitions section of this notice) to one or more students to help meet the students' costs of participation in a NACTEP project. A grantee must apply the following procedures for determining student eligibility for stipends and appropriate amounts to be awarded as stipends:

(1) To be eligible for a stipend a student must—

(i) Be enrolled in a career and technical education project funded under this program;

(ii) Be in regular attendance in a NACTEP project and meet the training institution's attendance requirement;

(iii) Maintain satisfactory progress in his or her program of study according to the training institution's published standards for satisfactory progress; and

(iv) Have an acute economic need that—

(A) Prevents participation in a project funded under this program without a stipend; and

(B) Cannot be met through a work-study program.

(2) The amount of a stipend is the greater of either the minimum hourly wage prescribed by State or local law or the minimum hourly wage established under the Fair Labor Standards Act.

(3) A grantee may only award a stipend if the stipend combined with other resources the student receives does not exceed the student's financial need. A student's financial need is the difference between the student's cost of attendance and the financial aid or other resources available to defray the student's cost of participating in a NACTEP project.

(4) To calculate the amount of a student's stipend, a grantee would multiply the number of hours a student actually attends career and technical education instruction by the amount of the minimum hourly wage that is prescribed by State or local law, or by the minimum hourly wage that is established under the Fair Labor Standards Act.

Example: If a grantee uses the Fair Labor Standards Act minimum hourly wage of $7.25 and a student attends classes for 20 hours a week, the student's stipend would be $145 for the week during which the student attends classes ($7.25 × 20 = $145.00).

Note: In accordance with applicable Department statutory requirements and administrative regulations, grantees must maintain records that fully support their decisions to award stipends and the amounts that are paid, such as proof of a student's enrollment in a NACTEP project, stipend applications, timesheets showing the number of attendance hours confirmed in writing by an instructor, student financial status information, and evidence that a student would not be able to participate in the NACTEP project without a stipend. (20 U.S.C. 1232f; 34 CFR 75.700-75.702; 75.730; and 75.731)

(5) An eligible student may receive a stipend when taking a course for the first time. However, generally a stipend may not be provided to a student who has already taken, completed, and had the opportunity to benefit from a course and is merely repeating the course.

(6) An applicant must include in its application the procedure it intends to use to determine student eligibility for stipends and stipend amounts, and its oversight procedures for the awarding and payment of stipends.

(d) Direct assistance to students. A grantee may provide direct assistance to students if the following conditions are met:

(1) The recipient of the direct assistance is an individual who is a member of a special population and who is participating in the grantee's NACTEP project.

(2) The direct assistance is needed to address barriers to the individual's successful participation in that project.

(3) The direct assistance is part of a broader, more generally focused program or activity to address the needs of an individual who is a member of a special population.

Note: Direct assistance to individuals who are members of special populations is not, by itself, a “program or activity for special populations.”

(4) The grant funds used for direct assistance must be expended to supplement, and not supplant, assistance that is otherwise available from non-Federal sources. (20 U.S.C. 2391(a)) For example, generally, a postsecondary educational institution could not use NACTEP funds to provide child care for single parents if non-Federal funds previously were made available for this purpose, or if non-Federal funds are used to provide child care services for single parents participating in non-career and technical education programs and these services otherwise would have been available to career and technical education students in the absence of NACTEP funds.

(5) In determining how much of the NACTEP grant funds it will use for direct assistance to an eligible student, a grantee must consider whether the specific services to be provided are a reasonable and necessary cost of providing career and technical education programs for special populations. However, the Assistant Secretary does not envision a circumstance in which it would be a reasonable and necessary expenditure of NACTEP project funds for a grantee to use a majority of a project's budget to pay direct assistance to students, in lieu of providing the students served by the project with career and technical education.

Additional Program Requirements

(a) Appeal process. Any applicant denied funding under this NACTEP competition may request a hearing to review the Secretary's decision not to make the award. The Secretary will implement the appeal process in accordance with the procedures set forth in 34 CFR 401.23. In accordance with those procedures, any applicant denied funding will have 30 calendar days to make a written request to the Secretary for a hearing to review the Secretary's decision.

(b) Career and technical education agreement. Any applicant that is not proposing to provide career and technical education directly to its students and proposes instead to use NACTEP funds to pay one or more qualified educational entities to provide education to its students must include with its application a written career and technical education agreement between the applicant and that entity. The written agreement must describe the commitment between the applicant and each educational entity and must include, at a minimum, a statement of the responsibilities of the applicant and the entity. The agreement must be signed by the appropriate individuals on behalf of each party, such as the authorizing official or president of a tribe or tribal organization, a college president, or a college dean.

(c) Limitation on services. Section 315 of the Act prohibits the use of funds received under the Act to provide career and technical education programs to students prior to the seventh grade.

(d) Supplement-Not-Supplant. In accordance with section 311(a) of the Act, funds under this program may not be used to supplant non-Federal funds used to carry out career and technical education activities and tech-prep activities. Further, the prohibition against supplanting also means that grantees are required to use their negotiated restricted indirect cost rates under this program. (34 CFR 75.563)

The Secretary cautions applicants not to plan to use funds under NACTEP to replace otherwise available non-Federal funding for direct assistance to students and family assistance programs. For example, NACTEP funds must not be used to supplant tribal and other non-Federal funds with Federal funds in order to pay the costs of students' tuition, dependent care, transportation, books, supplies, and other costs associated with participation in a career and technical education program.

Further, the Secretary is concerned that funds under NACTEP may be used to replace Federal student financial aid. The Secretary wishes to highlight that the Act does not authorize the Secretary to fund projects that serve primarily as entities through which students may apply for and receive tuition and other financial assistance.

Integration of Services

(a) A tribe, tribal organization, or Alaska Native entity receiving financial assistance under this program may integrate those funds with assistance received from related programs in accordance with the provisions of Public Law 102-477, the Indian Employment, Training and Related Services Demonstration Act of 1992 (25 U.S.C. 3401 et seq.).

(b) A tribe, tribal organization, or Alaska Native entity wishing to integrate funds must have a plan that meets the requirements of the Indian Employment, Training and Related Services Demonstration Act and is acceptable to the Secretary of the Interior and the Secretary of Education.

For further information on the integration of grant funds under this and related programs contact Jack Stevens the Division of Workforce Development, Office of Indian Energy and Economic Development, U.S. Department of the Interior, 1951 Constitution Avenue NW., Mailstop 20 SIB, Washington, DC 20245. Telephone: (202) 208-6764. Email address: jack.stevens@bia.gov. Fax: (202) 208-4564.

Indian Self-Determination Contracts

Section 116(b)(2) of the Act provides that grants or contracts awarded under section 116 of the Act are subject to the terms and conditions of section 102 of the ISDEA (25 U.S.C. 450f) and must be conducted in accordance with the provisions of sections 4, 5, and 6 of the Act of April 16, 1934 (25 U.S.C. 455-457), that are relevant to the programs administered under section 116(b) of the Act. Section 102 of the ISDEA authorizes Indian tribes to request self-determination contracts. Accordingly, an Indian tribe or tribal organization that has applied to the Secretary for financial assistance under NACTEP and has been notified of its selection to be a recipient of financial assistance may submit a request to operate its NACTEP project through a section 102 Indian self-determination contract.

In accordance with section 102(a) of the ISDEA, any Indian tribe or tribal organization requesting to operate its project under an Indian self-determination contract must do so by tribal resolution. After successful applicants are selected under this NACTEP competition, the Secretary will review any requests to operate a project under an Indian self-determination contract pursuant to the ISDEA. If a request for an Indian self-determination contract is approved, the Indian tribe or tribal organization submitting the request will be required, to the extent possible, to operate its project in accordance with the ISDEA, the Act, and the non-statutory program requirements established in the notice of final requirements, definitions, and selection criteria for this program, published elsewhere in this issue of the Federal Register.

The career and technical education programs, services, and activities provided through an Indian self-determination contract would have to be essentially the same as were proposed in the initial application and approved by the Department. Any Indian tribe or tribal organization that is selected to receive funding under this competition, but whose request for an Indian self-determination contract is denied, may appeal the denial to the Secretary. If you have questions about ISDEA self-determination contracts, please contact the persons listed in the FOR FURTHER INFORMATION CONTACT section of this notice.

Program Authority: 20 U.S.C. 2301, et seq., particularly 2326(a)-(g)).

Applicable Regulations: (a) The Education Department General Administrative Regulations (EDGAR) in 34 CFR parts 74, 75, 77, 80, 81, 82, 84, 86, 97, 98, and 99. (b) The Education Department suspension and debarment regulations in 2 CFR part 3485. (c) The notice of final supplemental priorities and definitions for discretionary grant programs, published in the Federal Register on December 15, 2010 (75 FR 78486), and corrected on May 12, 2011 (76 FR 27637). (d) The notice of final requirements, definitions, and selection criteria for this program, published elsewhere in this issue of the Federal Register.

Note: The regulations in 34 CFR part 86 apply to institutions of higher education only.

II. Award Information

Type of Award: Discretionary grants.

Estimated Available Funds: $14,023,000 for the first 12 months or the project period. Funding for year two is subject to the availability of funds and to a grantee meeting the requirements of 34 CFR 75.253. FY 2013 funds will be used for new awards under this competition.

Estimated Range of Awards: $300,000 to $600,000.

Estimated Average Size of Awards: $450,000.

Estimated Number of Awards: 30.

Note: The Department is not bound by any estimates in this notice.

Project Period. Up to 24 months.

III. Eligibility Information

1. Eligible Applicants: (a) The following entities are eligible for an award under NACTEP:

(1) A federally recognized Indian tribe.

(2) A tribal organization.

(3) An Alaska Native entity.

(4) A Bureau-funded school, except for a Bureau-funded school proposing to use its award to support secondary school career and technical education programs.

(b) Any tribe, tribal organization, Alaska Native entity, or eligible Bureau-funded school may apply individually or as part of a consortium with one or more eligible tribes, tribal organizations, Alaska Native entities, or eligible Bureau-funded schools. (Eligible applicants seeking to apply for funds as a consortium must meet the requirements in 34 CFR 75.127-75.129, which apply to group applications.)

2. Demonstration of Eligibility: The following requirements are from the notice of final requirements, definitions, and selection criteria for this program, published elsewhere in this issue of the Federal Register.

(a) An eligible applicant (as determined by the Act) must include documentation in its application showing that it and, if appropriate, its consortium members are eligible to apply.

(b) As defined in the Indian Self-Determination and Education Assistance Act (ISDEA) (25 U.S.C. 450b(l)), the term “tribal organization” means the recognized governing body of any Indian tribe; any legally established organization of Indians which is controlled, sanctioned, or chartered by such governing body or which is democratically elected by the adult members of the Indian community to be served by such organization and which includes the maximum participation of Indians in all phases of its activities: Provided, that in any case where a contract is let or grant made to an organization to perform services benefiting more than one Indian tribe, the approval of each such Indian tribe shall be a prerequisite to the letting or making of such contract or grant. In accordance with this statutory definition, any tribal organization proposing to provide NACTEP services for the benefit of more than one Indian tribe must first obtain the approval of each Indian tribe it proposes to serve and must submit documentation of such approval with its NACTEP application and that documentation of tribal approval is a prerequisite to the awarding of a NACTEP grant to any tribal organization proposing to serve more than one Indian tribe.

3. (a) Cost Sharing or Matching: This program does not require cost sharing or matching.

(b) Supplement-Not-Supplant: This program involves supplement-not-supplant funding requirements. (34 CFR 75.563)

4. Other:

(a) Background Information

This notice invites applications for a NACTEP competition that implements section 116 of the Act, enacted August 12, 2006. Section 116 of the Act continues to authorize the Secretary to award grants, cooperative agreements, or enter into contracts with Indian tribes, tribal organizations, and Alaska Native entities to operate career and technical education projects that improve career and technical education for Native American and Alaska Native students.

Under section 116 of the Act, Bureau-funded schools proposing to fund secondary programs are not eligible to receive an award directly from the Secretary. However, an Indian tribe, tribal organization, Alaska Native entity, or Bureau-funded school may use its award to assist a secondary school operated or supported by the U.S. Department of the Interior to carry out career and technical education programs. A Bureau-funded school that is not proposing a secondary program is eligible for assistance under NACTEP.

(b) Under the statutory definition of “career and technical education”, the sequence of courses provided as part of a career and technical education program must provide students with coherent and rigorous content aligned with challenging academic standards and relevant technical knowledge and skills needed to prepare for further education and careers in current or emerging professions. (20 U.S.C. 2302(5)(A)(i))

(c) Special Populations. Paragraph (F) of the definition of “Special Populations” in section 3(29) of the Act uses the phrase “individuals with limited English proficiency”. Under section 324 of the Act, NACTEP students with other barriers to educational achievement may receive assistance such as tuition and fees, dependent care, transportation, books, and supplies, that are necessary for a student to participate in a project funded under this program. (20 U.S.C. 2414(b))

Note: Refer to the Direct assistance to students and Student Stipends sections of this notice for guidance on providing financial assistance for tuition, dependent care, transportation, books, supplies, and stipends.

IV. Application and Submission Information

1. Address To Request Application Package: Gwen Washington, U.S. Department of Education, 400 Maryland Avenue SW., room 11076, PCP, Washington, DC 20202-7241. Telephone: (202) 245-7790. Fax: (202) 245-7170 or by email: gwen.washington@ed.gov. Or Linda Mayo, U.S. Department of Education, 400 Maryland Avenue SW., room 11075, PCP, Washington, DC 20202-7241. Telephone: (202) 245-7790. Fax: (202) 245-7170 or by email: linda.mayo@ed.gov.

You may also obtain an application package via the Internet from the following address: www.ed.gov/GrantApps/.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact persons listed in this section.

2. Content and Form of Application Submission:

Requirements concerning the content of the application, together with the forms you must submit, are in the application package for this program.

3. Submission Dates and Times:

Applications Available: February 26, 2013.

Deadline for Transmittal of Applications: April 12, 2013.

Applications for grants under this program may be submitted electronically using the Grants.gov Apply site (Grants.gov), or in paper format by mail or hand delivery. For information (including dates and times) about how to submit your application electronically, or in paper format by mail or hand delivery, please refer to section IV. 7. Other Submission Requirements or this notice.

We do not consider an application that does not comply with the deadline requirements.

Individuals with disabilities who need an accommodation or auxiliary aid in connection with the application process should contact the persons listed under For Further Information Contact in section VII of this notice. If the Department provides an accommodation or auxiliary aid to an individual with a disability in connection with the application process, the individual's application remains subject to all other requirements and limitations in this notice.

4. Intergovernmental Review: This program is not subject to Executive Order 12372 and the regulations in 34 CFR part 79.

5. Funding Restrictions: We reference regulations outlining funding restrictions in the Applicable Regulations section of this notice.

6. Data Universal Numbering System Number, Taxpayer Identification Number, Central Contractor Registry, and System for Award Management: To do business with the Department of Education, you must—

a. Have a Data Universal Numbering System (DUNS) number and a Taxpayer Identification Number (TIN);

b. Register both your DUNS number and TIN with the Central Contractor Registry (CCR)—and, after July 24, 2012, with the System for Award Management (SAM), the Government's primary registrant database;

c. Provide your DUNS number and TIN on your application; and

d. Maintain an active CCR and SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR or SAM registration process may take five or more business days to complete. If you are currently registered with the CCR, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements:

Applications for grants under this program may be submitted electronically or in paper format by mail or hand delivery.

a. Electronic Submission of Applications.

We are participating as a partner in the Governmentwide Grants.gov Apply site. NACTEP, CFDA Number 84.101A, is included in this project. We request your participation in Grants.gov.

If you choose to submit your application electronically, you must use the Governmentwide Grants.gov Apply site at www.Grants.gov. Through this site, you will be able to download a copy of the application package, complete it offline, and then upload and submit your application. You may not email an electronic copy of a grant application to us.

You may access the electronic grant application for NACTEP at www.Grants.gov. You must search for the downloadable application package for this competition by the CFDA number. Do not include the CFDA number's alpha suffix in your search (e.g., search for 84.101, not 84.101A).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award Number (an ED-specified identifying number unique to your application.)

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the persons listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service of a commercial carrier), you must mail the original and two copies of your application, on or before the application deadline date, to the Department at the following address: U.S. Department of Education, Application Control Center, Attention: (CFDA Number 84.101A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.101A) 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from the notice of final requirements, definitions, and selection criteria for this program, published elsewhere in this issue of the Federal Register and are as follows. The maximum score for each criterion is indicated in parentheses.

(a) Need for project. (5 points total) In determining the need for the proposed project, we consider the extent of the need for the services to be provided or the activities to be carried out by the proposed project, as evidenced by data on such phenomena as local labor market demand or occupational trends, or from surveys, recommendations from accrediting agencies, or tribal economic development plans.

(b) Significance. (15 points total) In determining the significance of the proposed project, we consider the following factors:

(1) The potential contribution of the proposed project toward increasing the understanding of educational needs, issues, or strategies for providing career and technical education to American Indians and Alaska Natives. (5 points)

(2) The likelihood that the proposed project will result in system change or improvement in the applicant's educational program as evidenced by the types of training and activities identified in the project application. (5 points)

(3) The extent to which the proposed project is likely to build local capacity to provide, improve, or expand services that address the career and technical needs of the target population. (5 points)

(c) Quality of the project design. (25 points total) In determining the quality of the design of the proposed project, we consider the following factors:

(1) The extent to which goals, objectives, and outcomes are clearly specified and measurable (e.g., identification of the requirements for each course of study to be provided under the project, the technical skill proficiencies to be taught and the industry-recognized standards or competency assessments to be used, including related training areas and a description of the industry certifications, credentials, certificates, or degrees that students may earn; expected enrollments, completions, and student placements in jobs, military specialties, and continuing education/training opportunities in each career training area; the number of teachers, counselors, and administrators to be trained). (10 points)

(2) The extent to which the design of the proposed project is appropriate to, and will successfully address, the needs of the target population or other identified needs, as evidenced by the applicant's description of programs and activities that align with the target population's needs. (5 points)

(3) The extent to which the design for implementing and evaluating the proposed project plans for and is likely to result in the development of information that will guide possible dissemination of information on project practices, activities, or strategies, including information about the effectiveness of the approach or strategies employed by the project, planned dissemination activities, the kind of practices, activities, or strategies to be disseminated, the target audience for the dissemination of such practices, activities, or strategies, and the proposed uses for such disseminated practices, activities, or strategies. (5 points)

(4) The extent to which the proposed project will establish linkages with or will be coordinated with similar or related efforts, and with community, State, or Federal resources, where such opportunities and resources exist. (5 points)

(d) Quality of project services. (20 points total) In determining the quality of the services to be provided by the proposed project, we consider the following factors:

(1) The extent to which the training or professional development services to be provided by the proposed project would be of sufficient quality, intensity, and duration to lead to improvements in practice among the project staff and instructors, including the extent to which the proposed training and professional development plans address ways in which learning gaps will be addressed and how continuous review of performance will be conducted to identify training needs. (5 points)

(2) The extent to which the services to be provided by the proposed project will create opportunities for students to receive an industry-recognized credential; become employed in high-skill, high-wage, and high-demand occupations; or both. (5 points)

(3) The extent to which the services proposed in the project will create opportunities for students to acquire technical skill proficiencies, industry certifications, or the skills identified by State or industry-recognized career and technical education programs or professions. In describing the services, there must be a clear link between the services and the skill proficiencies, industry certifications, credentials, certificates, or degrees that students may earn. (10 points)

(e) Quality of project personnel. (15 points total) In determining the quality of project personnel, we consider the following factors:

(1) The extent to which the applicant encourages applications for employment from persons who are members of groups that have traditionally been underrepresented based on race, color, national origin, gender, age, or disability. (5 points)

(2) The qualifications, including relevant training, expertise, and experience, of the project director, key personnel, and project consultants. (5 points)

(3) The extent to which the project will use instructors who are certified to teach in the field in which they will provide instruction. (5 points)

(f) Adequacy of resources. (20 points total) In determining the adequacy of resources for the proposed project, we consider the following factors:

(1) The adequacy of support, including facilities, equipment, supplies, and other resources, from the applicant organization(s) and the tribal entity or entities to be served. (5 points)

(2) The extent to which the budget is adequate and costs are reasonable in relation to the objectives of the proposed project. (5 points)

(3) The relevance and demonstrated commitment (e.g., through written career and technical education agreements, memoranda of understanding, letters of support and commitment, or commitments to employ project participants, as appropriate) of the applicant, members of the consortium, local employers, or tribal entities to be served by the project. (5 points)

(4) The potential for continued support of the project after Federal funding ends. (5 points)

(g) Quality of the management plan. (15 points total) In determining the quality of the management plan for the proposed project, we consider the following factors:

(1) The adequacy of the management plan to achieve the objectives of the proposed project on time and within budget, including clearly defined responsibilities, timelines, and the milestones and performance standards for accomplishing project tasks. (5 points)

(2) The extent to which the time commitments of the project director and other key project personnel are appropriate and adequate to meet the objectives of the proposed project. (5 points)

(3) The adequacy of mechanisms for ensuring high-quality products and services from the proposed project. (5 points)

(h) Quality of the project evaluation. (25 points total) In determining the quality of the evaluation, we consider the following factors:

(1) The extent to which the methods of evaluation proposed by the grantee are thorough, feasible, and appropriate to the goals, objectives, and outcomes of the proposed project. (5 points)

(2) The extent to which the methods of evaluation include the use of objective performance measures that are clearly related to the intended outcomes of the project and the Government Performance and Results Act of 1993 (GPRA) performance measures, and will produce quantitative and qualitative data, to the extent possible. (5 points)

(3) The extent to which the methods of the evaluation include processes that consider the validity and integrity of data collection and analysis; accessibility of appropriate and timely data; accurate descriptions of performance; collection processes that yield unbiased, unprejudiced, and impartial data results; and the extent to which representation of the data clearly communicates an accurate picture of performance. (5 points)

(4) The extent to which the methods of evaluation will provide performance feedback and continuous improvement toward achieving intended outcomes. (5 points)

(5) The quality of the evaluation to be conducted by an external evaluator with the necessary background and technical expertise to carry out the evaluation. (5 points)

2. Additional Selection Factors: In accordance with the requirement in section 116(e) of the Act, we have included the following additional selection factors and will award additional points to any application addressing the following factors, as indicated. These additional factors are from the notice of final requirements, definitions, and selection criteria for this program, published elsewhere in this issue of the Federal Register and are as follows. We will award—

(a) Up to 10 additional points to applications that propose exemplary approaches that involve, coordinate with, or encourage tribal economic development plans; and

(b) Five points to applications from tribally controlled colleges or universities that—

(1) Are accredited or are candidates for accreditation by a nationally recognized accreditation organization as an institution of postsecondary career and technical education; or

(2) Operate career and technical education programs that are accredited or are candidates for accreditation by a nationally recognized accreditation organization and issue certificates for completion of career and technical education programs (20 U.S.C. 2326(e)).

3. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under GPRA, Federal departments and agencies must clearly describe the goals and objectives of their programs, identify resources and actions needed to accomplish these goals and objectives, develop a means of measuring progress made, and regularly report on their achievement. One important source of program information on successes and lessons learned is the project evaluation conducted under individual grants. The Department has developed the following core factors and measures for evaluating the overall effectiveness of NACTEP projects:

(a) At the secondary level: An increase in the percentage of career and technical education students who—

(1) Attain academic proficiency, as demonstrated by meeting academic content standards and student academic achievement standards that meet challenging State defined academic standards for reading/language arts and mathematics;

(2) Attain career and technical skill proficiencies, including student achievement on technical assessments that are aligned with industry-recognized standards;

(3) Attain a secondary school diploma;

(4) If a credential, certificate, or degree is offered by the State in which the project operates, in conjunction with a secondary school diploma, attain a proficiency credential, certificate, or degree in conjunction with a secondary school diploma; and

(5) Are placed in—

(i) Postsecondary education or advanced training;

(ii) Military service; or

(iii) Employment.

(b) At the postsecondary level: An increase in the percentage of career and technical education students who—

(1) Attain challenging career and technical skill proficiencies, including student achievement on technical assessments that are aligned with industry-recognized standards;

(2) Attain an industry-recognized credential, a certificate, or a degree;

(3) Are retained in postsecondary education or transfer to a baccalaureate degree program;

(4) Are placed in—

(i) Military service; or

(ii) Apprenticeship programs; and

(5) Are placed or have been retained in employment, including in high-skill, high-wage, or high-demand occupations or professions.

(c) At the adult education level: An increase in the percentage of participating adult career and technical education students who—

(1) Enroll in a postsecondary education or training program;

(2) Attain career and technical education skill proficiencies aligned with industry-recognized standards;

(3) Receive industry-recognized credentials or certificates; and

(4) Are placed in a job, upgraded in a job, or retain employment.

Note: All grantees will be expected to submit an annual performance report addressing these performance measures, to the extent feasible and to the extent that they apply to each grantee's NACTEP project.

5. Evaluation Requirements: To help ensure the high quality of NACTEP projects and the achievement of the goals and purposes of section 116 of the Act, each grantee must budget for and conduct an ongoing evaluation of the effectiveness of its NACTEP project. An independent evaluator must conduct the evaluation. As provided in the notice of final requirements, definitions, and selection criteria for this program, published elsewhere in this issue of the Federal Register, the evaluation must—

(a) Be appropriate for the project and be both formative and summative in nature;

(b) Include—

(1) Applicable performance measures for NACTEP;

(2) Qualitative and quantitative data with respect to—

(i) Academic and career and technical competencies demonstrated by the participants and the number and kinds of academic and work credentials acquired by individuals, including participation in programs providing skill proficiency assessments, industry certifications, or training at the associate degree level that is articulated with an advanced degree option;

(ii) Enrollment, completion, and placement of participants by gender for each occupation for which training was provided;

(iii) Job or work skill attainment or enhancement, including participation in apprenticeship and work-based learning programs, and student progress in achieving technical skill proficiencies necessary to obtain employment in the field for which the student has been prepared, including attainment or enhancement of technical skills in the industry the student is preparing to enter;

(iv) Activities during the formative stages of the project to help guide and improve the project, as well as a summative evaluation that includes recommendations for disseminating information on project activities and results;

(v) The number and percentage of students who obtained industry-recognized credentials, certificates, or degrees;

(vi) If available, the outcomes of students' technical assessments, by type and scores; and

(vii) The rates of attainment of a proficiency credential or certificate, in conjunction with a secondary school diploma;

(c) Measure the effectiveness of the project, including—

(1) A comparison between the intended and observed results; and

(2) A demonstration of a clear link between the observed results and the specific treatment given to project participants;

(d) Measure the extent to which information about or resulting from the project was disseminated at other sites, such as through the grantee's development and use of guides or manuals that provide step-by-step directions for practitioners to follow when initiating similar efforts; and

(e) Measure the long-term impact of the project, such as, follow-up data on students' employment, sustained employment, promotions, and further/continuing education or training, or the impact the project had on tribal economic development or career and technical education activities offered by tribes.

6. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8 and 110.23).

VII. Agency Contacts

For Further Information Contact: Gwen Washington, U.S. Department of Education, 400 Maryland Avenue SW., room 11076, PCP, Washington, DC 20202-7241. Telephone: (202) 245-7790. Fax: (202) 245-7170 or by email: gwen.washington@ed.gov. Or Linda Mayo, U.S. Department of Education, 400 Maryland Avenue SW., Room 11075, PCP, Washington, DC 20202-7241. Telephone: (202) 245-7790. Fax: (202) 245-7170 or by email: linda.mayo@ed.gov.

If you use a TDD or a TTY, call the FRS, toll free, at 1-800-877-8339.

VIII. Other Information

Accessible Format: Individuals with disabilities can obtain this document and a copy of the application package in an accessible format (e.g., braille, large print, audiotape, or compact disc) on request to the program contact persons listed under For Further Information Contact in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 21, 2013.
Brenda Dann-Messier,
Assistant Secretary for Vocational and Adult Education.

[FR Doc. 2013-04434 Filed 2-25-13; 8:45 am]

BILLING CODE 4000-01-P